DEPARTMENT OF COMMERCE

Foreign-Trade Zones Board

[DOCKET 24-2001]

Foreign-Trade Zone 124—Gramercy, LA; Subzone 124D—LOOP LLC/LOCAP LLC (Crude Oil Pipeline and Storage System); Request for Expansion

An application has been submitted to the Foreign-Trade Zones Board (the Board) by the South Louisiana Port Commission, grantee of FTZ 124, requesting authority to expand Subzone 124D at the LOOP LLC/LOCAP LLC pipeline and storage system, to include additional pipeline and storage tanks. The application was submitted pursuant to the provisions of the Foreign-Trade Zones Act, as amended (19 U.S.C. 81a-81u), and the regulations of the Board (15 CFR part 400). It was formally filed on June 14, 2001.

SZ 124D was approved on June 1, 1995 (Board Order 748, 60 FR 30267, 06/08/95). The subzone currently consists of two sites (981 acres) and 92 miles of pipeline. The subzone facilities include:

—Site 1—Four Parcels owned by LOOP LLC, and 37 miles of pipeline.

—Parcel A (10 acres)—Fourchon Booster Station, Highway 1, Fourchon, LA.

—Parcel B (287 acres)—Clovelly Dome Storage Terminal, Clovelly, LA.

—Parcel C (533 acres)—Brine Storage Reservoir, Clovelly, LA.

—Parcel D (27 acres)—Operations Center, 224 E. 101 Place, Cut Off, LA.

—Site 2 (124 acres and 55 miles of pipeline)—St. James Terminal, 6695 LOCAP Road, St. James, LA, owned by LOCAP LLC, and operated by LOOP LLC pursuant to a management agreement.

The applicant is now requesting authority to expand the subzone to include a fifth parcel within Site 1: Parcel E (103.5 acres)—tank farm, located at South Lafourche Airport Road, Clovelly, Louisiana, some 1.5 miles from the Clovelly Dome Storage Terminal (Site 1, Parcel B) and .75 of a mile from the Brine Storage Reservoir (Site 1, Parcel C). The proposed site includes a 3000 foot pipeline right of way connecting the tank farm site with the Brine Storage Reservoir. Currently, two storage tanks are under construction, each of which will hold a maximum of 650,000 barrels of crude petroleum product. LOOP may install up to ten additional tanks (6.6 million barrel capacity) on the proposed site. The expansion site will be used for segregated crude petroleum handling.

Public comment on the proposal is invited from interested parties. Submissions (original and 3 copies) shall be addressed to the Board's Executive Secretary at the address below. The closing period for their receipt is August 27, 2001. Rebuttal comments in response to material submitted during the foregoing period may be submitted during the subsequent 15-day period (to August 10, 2001).

A copy of the application and accompanying exhibits will be available for public inspection at each of the following locations:

U.S. Department of Commerce, Export Assistance Center, 365 Canal Street, #1170, New Orleans, LA 70130.

Office of the Executive Secretary, Foreign-Trade Zones Board, U.S. Department of Commerce, Room 4008, 14th & Pennsylvania Avenue, NW, Washington, DC 20230.

Dated: June 18, 2001.
Dennis Puccinelli,
Executive Secretary.

[FR Doc. 01-16014 Filed 6-25-01; 8:45 am]

BILLING CODE 3510-DS-P